DEPARTMENT OF COMMERCE

National Oceanic and Atmospheric Administration

Proposed Information Collection; Comment Request; Processed Products Family of Forms

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before July 25, 2017.

ADDRESSES: Direct all written comments to Jennifer Jessup, Departmental Paperwork Clearance Officer, Department of Commerce, Room 6616, 14th and Constitution Avenue NW., Washington, DC 20230 (or via the Internet at pracomments@doc.gov).

FOR FURTHER INFORMATION CONTACT: Requests for additional information or copies of the information collection instrument and instructions should be directed to Melissa Yencho, (301) 427-8193 or melissa.yencho@noaa.gov.

SUPPLEMENTARY INFORMATION:

I. Abstract

This request is for extension of a current information collection.

National Oceanic and Atmospheric Administration (NOAA) annually collects information from seafood and industrial fishing processing plants on the volume and value of their processed fishery products and their monthly employment figures. NOAA also collects monthly production volume of fish meal, oil, and solubles. The information gathered is used by NOAA in the economic and social analyses developed when proposing and evaluating fishery management actions.

II. Method of Collection

In the current survey, NOAA Fisheries provides each processor with a pre-printed survey form that includes the products produced by that processor in the previous year. The processor only needs to fill in the quantity of product, value of product, monthly employment, and add any new products. New firms to the survey are provided blank forms. Responses are submitted by mail, via postage-paid envelopes provided by NOAA Fisheries.

III. Data

OMB Control Number: 0648-0018.

Form Number: NOAA Forms 88-13, 88-13C.

Type of Review: Regular submission (extension of a current information collection).

Affected Public: Business or other for-profit organizations.

Estimated Number of Respondents: 747.

Estimated Time per Response: 30 minutes for an Annual Processed Products Report and 15 minutes for a monthly Fishery Products Report Fish Meal and Oil.

Estimated Total Annual Burden Hours: 392.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 22, 2017.
Sarah Brabson,
NOAA PRA Clearance Officer.

[FR Doc. 2017-10787 Filed 5-25-17; 8:45 am]

BILLING CODE 3510-22-P